DEPARTMENT OF DEFENSE

Office of the Secretary

[Transmittal No. 21-26]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-26 with attached Policy Justification and Sensitivity of Technology.

Dated: July 25, 2023.
Aaron T. Siegel,
Alternate OSD Federal Register Liaison Officer, Department of Defense.

BILLING CODE 5001-06-P

BILLING CODE 5001-06-C

Transmittal No. 21-26

Notice of Proposed Issuance of Letter of Offer Pursuant to Section 36(b)(1) of the Arms Export Control Act, as amended

(i) Prospective Purchaser: Government of Egypt

(ii) Total Estimated Value:

Major Defense Equipment | $1.6 billion
Other | $0.6 billion
TOTAL | $2.2 billion

Funding Source: Foreign Military Financing (FMF)

(iii) Description and Quantity or Quantities of Articles or Services under Consideration for Purchase:

Major Defense Equipment (MDE):

Twelve (12) C-130J Super Hercules Aircraft with Four (4) each Rolls Royce AE-2100D Turboprop Engines (installed)

Twelve (12) Rolls Royce AE-2100D Turboprop Engines (spares)

Thirty (30) Embedded GPS/INS (EGI) with GPS Security Devices (including 6 spares)

Seven (7) Multifunctional Information Distribution System—Low Volume Terminal Block Upgrade Two (MIDS-LVT BU2) (including 3 spares)

Non-MDE:

Also included are AN/APX-119 Identification Friend or Foe (IFF) Transponders; AN/AAR-47 Missile Warning Systems (MWS); AN/ALE-47 Countermeasures Dispensing System (CMDS); AN/ALR-56M Radar Warning Receiver (RWR); AN/AAQ-22 (STAR SAFIRE 380); secure communications, cryptographic equipment, and GPS-aided precision navigation equipment; publications and technical documentation; software and mission critical resources; aircraft support and equipment; unclassified return and repair; integration and testing; personnel training and training equipment; U.S. Government and contractor engineering, technical, and logistics support services; and other related elements of logistical and program support.

(iv) Military Department: Air Force (EG-D-SAD)

(v) Prior Related Cases, if any: None

(vi) Sales Commission, Fee, etc. Paid, Offered, or Agreed to be Paid: None

(vii) Sensitivity of Technology Contained in Defense Article or Defense Services Proposed to be Sold: See Attached Annex

(viii) Date Report Delivered to Congress: January 25, 2022

* As defined in Section 47(6) of the Arms Export Control Act.

POLICY JUSTIFICATION

Egypt—C-130J-30 Super Hercules Aircraft

The Government of Egypt has requested to purchase twelve (12) C-130J Super Hercules aircraft with four (4) each Rolls Royce AE-2100D Turboprop Engines (installed); twelve (12) Rolls Royce AE-2100D Turboprop Engines (spares); thirty (30) Embedded GPS/INS (EGI) with GPS Security Devices (including 6 spares); and seven (7) Multifunctional Information Distribution System—Low Volume Terminal Block Upgrade Two (MIDS-LVT BU2) (including 3 spares). Also included are AN/APX-119 Identification Friend or Foe (IFF) Transponders; AN/AAR-47 Missile Warning Systems (MWS); AN/ALE-47 Countermeasures Dispensing System (CMDS); AN/ALR-56M Radar Warning Receiver (RWR); AN/AAQ-22 (STAR SAFIRE 380); secure communications, cryptographic equipment, and GPS-aided precision navigation equipment; publications and technical documentation; software and mission critical resources; aircraft support and equipment; unclassified return and repair; integration and testing; personnel training and training equipment; U.S. Government and contractor engineering, technical, and logistics support services; and other related elements of logistical and program support. The estimated total program cost is $2.2 billion.

This proposed sale will support the foreign policy and national security of the United States by helping to improve the security of a Major Non-NATO Ally that continues to be an important strategic partner in the Middle East.

The proposed sale will improve Egypt's capability to meet current and future threats by providing airlift support for its forces by moving supplies, equipment, and people, thus strengthening its capacity in the security and humanitarian arena. This airlift capability would assist with border security, the interdiction of known terrorist elements, rapid reaction to internal security threats, and humanitarian aid. Egypt also intends to utilize these aircraft for maritime patrol missions and search and rescue missions in the region. Egypt, which already operates a mix of legacy C-130s, will have no difficulty absorbing these aircraft and services into its armed forces.

The proposed sale of this equipment and support will not alter the basic military balance in the region.

The principal contractor will be Lockheed Martin Aeronautics Company in Marietta, GA. There are no known offsets proposed in conjunction with this potential sale.

Implementation of this proposed sale will require the assignment of two (2) contracted Field Service Representatives (FSR) and one (1) Logistic Service Representative (LSR) for a period of three (3) years. The FSRs and LSR will have expertise in airframe, avionics/electrical, propulsion systems, ground maintenance systems, and logistics support.

There will be no adverse impact on U.S. defense readiness as a result of this proposed sale.

Transmittal No. 21-26

Notice of Proposed Issuance of Letter of Offer Pursuant to Section 36(b)(1) of the Arms Export Control Act

Annex

Item No. vii

(vii) Sensitivity of Technology:

1. The C-130J-30 8.1 Super Hercules aircraft, including the Rolls Royce AE 2100D turboprop engines, is a military airlift aircraft that performs primarily the tactical portion of the airlift mission. The aircraft is capable of operating from rough, dirt strips and is the prime transport for air-dropping troops and equipment into hostile areas. The C-130J improvements over the C130E include improved maximum speed, climb time, cruising altitude, and range. The C-130J has 55 feet of cargo compartment length, an additional 15 feet over the original “short” aircraft.

2. The Rolls Royce AE1200D turboprop engine is a two-stage, air cooled, vatable speed gas generator turbine, and turbo-prop engine. Each engine contains a General Electrics (GE) Dowty R391 composite propeller installed for ground/flight operations. The engine is capable of inflight (engine core) wind milling and air starts up to 25,000 feet and airspeeds between 0.43 Mach and 0.64 Mach.

3. The Embedded Global Positioning System (GPS) Inertial Navigational System (INS) (GPS/INS) (EGI) with GPS Security Devices is a highly accurate inertial navigation system has embedded GPS for blended INS/GPS, free-inertial, and GPS-only solutions. Classified elements include Selective Availability Anti-Spoofing Module (SAASM) for decryption of precision GPS signals.

4. The Multifunctional Information Distribution System—Low Volume Terminal Block Upgrade Two (MIDS-LVT BU2) is an advanced command, control, communications, computing and intelligence (C4I) system incorporating high-capacity, jam-resistant, digital communication links for exchange of near real-time tactical information, including both data and voice, among air, ground, and sea elements.

5. The AN/APX-119 Identification Friend or Foe (IFF) is a system that responds to interrogating signals to assist in identification, location, and terrain avoidance.

6. The AN/AAR-47 Missile Approach Warning System is an aircraft passive MWS designed for detection of incoming surface-to-air and air-to-air missiles on transport and helicopter aircraft. The system detects, identifies, and displays potential threats. The AN/AAR-47 warns of missile approach by detecting radiation associated with the rocket motor and automatically initiates flare ejection.

7. The AN/ALE-47 Countermeasure Dispensing System (CMDS) is an integrated, threat-adaptive, software-programmable dispensing system capable of dispensing chaff, flares, and active radio frequency expendables. The threats countered by the CMDS include radar-directed anti-aircraft artillery, radar command-guided missiles, radar homing guided missiles, and infrared guided missiles. The system is internally mounted and may be operated as a stand-alone system or may be integrated with other on-board EW and avionics systems. The AN/ALE-47 uses threat data received over the aircraft interfaces to assess the threat situation and to determine a response. Expendable routines tailored to the immediate aircraft and threat environment may be dispensed using one of four operational modes.

8. The AN/ALR-56 Radar Warning Receiver (RWR) continuously detects and intercepts RF signals in certain frequency ranges and analyzes and separates threat signals from non-threat signals. It contributes to full-dimensional protection by providing individual aircraft probability of survival through improved aircrew situational awareness of the radar guided threat environment. The ALR56M is designed to provide improved performance in a dense signal environment and improved detection of modern threats signals.

9. The AN/AAQ-22 (STAR SAFIRE 380) is a gyro-stabilized, multi-spectral Electro-Optical/Infrared (E.O./IR) system configured to operate simultaneously in multiple bands including the visible, near-IR and mid-wave IR bands. The system consists of an externally-mounted turret sensor unit and internally-mounted central electronics unit and system control unit. Images will be displayed in the aircraft real-time and recorded for subsequent ground analysis.

10. The highest level of classification of defense articles, components, and services included in this potential sale is SECRET.

11. If a technologically advanced adversary were to obtain knowledge of the specific hardware and software elements, the information could be used to develop countermeasures that might reduce weapon system effectiveness or be used in the development of a system with similar or advanced capabilities.

12. A determination has been made that Egypt can provide substantially the same degree of protection for the sensitive technology being released as the U.S. Government. This sale is necessary in furtherance of the U.S. foreign policy and national security objectives outlined in the Policy Justification.

13. All defense articles and services listed in this transmittal have been authorized for release and export to the Government of Egypt.

[FR Doc. 2023-16073 Filed 7-27-23; 8:45 am]

BILLING CODE 5001-06-P